ENVIRONMENTAL PROTECTION AGENCY

[FRL-8055-9]

Notice of Prevention of Significant Deterioration Final Determination for Wanapa Energy Center

AGENCY: Environmental Protection Agency (“EPA”).

ACTION: Notice of final action.

SUMMARY: This document announces that on February 9, 2006, the Environmental Appeals Board (“EAB”) of EPA denied review of a petition for review of a Prevention of Significant Deterioration (“PSD”) permit (“Permit”) that EPA Region 10 issued to Diamond Wanapa I, L.P. (“Diamond”) for construction and operation of the Wanapa Energy Center (“Facility”), a natural gas-fired combined cycle electric generating facility. The Permit was issued pursuant to 40 CFR 52.21.

DATES: The effective date of the EAB's decision was February 9, 2006. Judicial review of this permit decision, to the extent it is available pursuant to section 307(b)(1) of the Clean Air Act (“CAA”), may be sought by filing a petition for review in the United States Court of Appeals for the Ninth Circuit within 60 days of April 7, 2006.

ADDRESSES: The documents relevant to the above action are available for public inspection during normal business hours at the following address: EPA, Region 10, 1200 Sixth Avenue (AWT-107), Seattle, Washington 98101. To arrange viewing of these documents, call Dan Meyer at (206) 553-4150.

FOR FURTHER INFORMATION CONTACT: Dan Meyer, EPA, Region 10, 1200 Sixth Avenue (AWT-107), Seattle, Washington 98101.

SUPPLEMENTARY INFORMATION: This supplementary information is organized as follows:

A. What Action Is EPA Taking?

B. What Is the Background Information?

C. What Did the EAB Decide?

A. What Action Is EPA Taking?

We are notifying the public of a final decision by the EAB on the Permit issued by EPA Region 10 pursuant to the PSD regulations found at 40 CFR 52.21.

B. What Is the Background Information?

The Facility will be a 1200-megawatt natural gas-fired, combined cycle electric generating facility located near Umatilla, Oregon on land held in trust by the federal government for the benefit of the Confederated Tribes of the Umatilla Indian Reservation. The Facility will combust natural gas and will employ selective catalytic reduction (SCR) and an oxidation catalyst to reduce emissions.

On November 23, 2004, EPA Region 10 issued the draft PSD permit for public review and comment. On August 8, 2005, after providing an opportunity for public comment and a public hearing, EPA Region 10 approved the Permit. On September 9, 2005, Mr. K.E. Thompson (“Petitioner”) petitioned the EAB for review of the Permit.

C. What Did the EAB Decide?

Petitioner, acting pro se, raised the following issues on appeal: (1) EPA Region 10 failed to address the human health or environmental effects of the proposed facility on “both majority and minority populations”; (2) EPA Region 10 improperly treated emission from nonroad heavy duty diesel engines differently than emission from power plants such as the Facility; (3) Region 10 failed to perform a cumulative impact analysis; (4) EPA Region 10 improperly considered meteorological data from Spokane and Walla Walla, Washington; (5) EPA Region 10 should have treated the airshed around the proposed Facility in the same manner as a Class I or Class II wilderness or scenic area; (6) EPA Region 10 did not consider a Bonneville Power Administration (BPA) study of regional air quality; (7) EPA Region 10 erred in establishing the Permit's volatile organic compound (VOC) emissions limitation; and (8) EPA Region 10 erred by failing to include permit conditions addressing emissions from nonroad heavy-duty diesel engines that will be used during construction of the proposed Facility.

The EAB denied review of the following four issues because these issues were not raised during the public comment period on the draft Permit or during the public hearing on the draft Permit: (1) EPA Region 10 failed to address the human health or environmental effects of the proposed facility on “both majority and minority populations”; (2) EPA Region 10 did not consider a BPA study of regional air quality; (3) EPA Region 10 erred in establishing the Permit's VOC emissions limitation; and (4) EPA Region 10 erred by failing to include permit conditions addressing emissions from nonroad heavy-duty diesel engines that will be used during construction of the proposed Facility. Moreover, the EAB found that, even if these four issues had been preserved for review, Petitioner failed to demonstrate that EPA Region 10's permit determination was clearly erroneous or otherwise warranted review.

The EAB denied review of the following four remaining issues because the Petitioner failed to demonstrate why the Region's response to public comments was clearly erroneous or otherwise warrants review: (1) EPA Region 10 improperly treated emission from nonroad heavy duty diesel engines differently than emission from power plants such as the Facility; (2) Region 10 failed to perform a cumulative impact analysis; (3) EPA Region 10 improperly considered meteorological data from Spokane and Walla Walla, Washington; and (4) EPA Region 10 should have treated the airshed around the proposed Facility in the same manner as a Class I or Class II wilderness or scenic area. For these reasons, the EAB denied review of the petition for review in its entirety.

Pursuant to 40 CFR 124.19(f)(1), for purposes of judicial review, final agency action occurs when a final PSD permit is issued and agency review procedures are exhausted. This notice is being published pursuant to 40 CFR 124.19(f)(2), which requires notice of any final agency action regarding a PSD permit to be published in the Federal Register. This notice constitutes notice of the final agency action denying review of the PSD Permit and, consequently, notice of the EPA Region 10's issuance of PSD Permit No. R10PSD-OR-05-01 to Diamond. If available, judicial review of these determinations under section 307(b)(1) of the CAA may be sought only by the filing of a petition for review in the United States Court of Appeals for the Ninth Circuit, within 60 days from the date on which this notice is published in the Federal Register. Under section 307(b)(2) of the Clean Air Act, this determination shall not be subject to later judicial review in any civil or criminal proceedings for enforcement.

Dated: March 1, 2006.
L. Michael Bogert,
Regional Administrator, Region 10.

[FR Doc. E6-5109 Filed 4-6-06; 8:45 am]

BILLING CODE 6560-50-P